DEPARTMENT OF ENERGY

Federal Energy Regulatory Commission

[Docket No. AD05-14-000]

State of the Natural Gas Infrastructure Conference; Supplemental Notice of Public Conference

October 6, 2005.

As announced in a Notice of Technical Conference issued on September 9, 2005, in the above referenced proceeding, a technical conference will be held on October 12, 2005, from approximately 9 a.m. until 1:30 p.m. (EST) (a change in closing time from 3 p.m. listed in the previous notice). The conference will be held in the Commission Meeting Room on the second floor of the offices of the Federal Energy Regulatory Commission, 888 First Street, NE., Washington, DC. All interested persons may attend; there is no fee or registration. Commissioners are expected to participate. Attached is the agenda for the conference.

Transcripts of the conference will be immediately available from Ace Reporting Company (202-347-3700 or 1-800-336-6646) for a fee. They will be available for the public on the Commission's eLibrary system seven calendar days after FERC receives the transcript. Additionally, Capitol Connection offers the opportunity for remote listening and viewing of the conference. It is available for a fee, live over the Internet, by phone, or via satellite. Persons interested in receiving the broadcast, or who need information on making arrangements should contact David Reininger or Julia Morelli at the Capitol Connection (703-993-3100) as soon as possible or visit the Capitol Connection Web site at http://www.capitolconnection.gmu.edu and click on “FERC.”

FERC conferences are accessible under section 508 of the Rehabilitation Act of 1973. For accessibility accommodations please send an e-mail to accessibility@ferc.gov or call toll free 866-208-3372 (voice) or 202-208-1659 (TTY), or send a fax to (202) 208-2106 with the required accommodations.

For more information about the conference, please contact John Schnagl at (202) 502-8756 (john.schnagl@ferc.gov) or Sarah McKinley at (202) 502-8004 (sarah.mckinley@ferc.gov).

Magalie R. Salas,
Secretary.

State of the Natural Gas Infrastructure Conference

Agenda

October 12, 2005

9 a.m.—Opening Remarks

Chairman Joseph T. Kelliher, Federal Energy Regulatory Commission.

9:15 a.m.—Presentation on Short-Term Price Effects of Recent Hurricanes

Stephen Harvey, Robert Flanders and Dean Wight, Office of Market Oversight and Investigations, FERC.

9:40 a.m.—Panel I: Katrina, Rita and the Winter Beyond

What energy infrastructure damage caused by Hurricanes Katrina and Rita still needs repair and what are the prospects for the coming winter?

Hurricanes Katrina and Rita have had significant impacts on the nation's natural gas infrastructure. What lessons were learned from these natural disasters, and how can they be applied to the country as a whole?

Panelists: R. Skip Horvath, President and CEO, Natural Gas Supply Association; David Halphen, Vice President Regulatory Affairs and Administration, Enbridge Offshore Pipelines; Martha Wyrsch, President and CEO, Duke Energy Transmission Corp., on behalf of Interstate Natural Gas Association of America; David Manning, Senior Vice President, Corporate Affairs, Keyspan Energy, on behalf of the American Gas Association; and Patrick DeVille, Director of Marketing, ENSTOR.

10:45 a.m.—Panel II: State of the Pipeline Industry

Given the evolution of the pipeline industry, financial conditions and current contracting practices, can the pipeline industry construct sufficient infrastructure to meet projected demands and the changing sources of supply, e.g., LNG and Rockies gas?

Beginning in 1992, the pipeline industry underwent a major transformation with the passage of Order No. 636. Order No. 637 and the Certificate Policy Statement further spurred the evolution of the industry. Then the 2000-2001 energy crisis was followed by a post-crisis credit crunch. The traditional model of long-term contracts at cost-based rates has been increasingly replaced by short-term contracts at negotiated rates. As a result, the face of the pipeline industry has changed with consolidations and acquisitions by financial investors and diversified companies.

Panelists: Commissioner Donald Mason, Ohio Public Utilities Commission and Chair of the NARUC Gas Committee; James Cleary, President, Western Pipelines, El Paso Corporation; Michael Walsh, Managing Director, AIG Highstar; Scott Parker, President, Natural Gas Pipelines, Kinder Morgan; and Todd Shipman, Director, Energy & Project Finance, Standard & Poor's.

11:50 a.m.—Panel III: Future of the Pipeline Industry

What changes in current regulatory policies might improve the economic and regulatory environment in order to spur interstate pipeline development?

Developments in response to expected increases in natural gas demand will bring natural gas to the U.S. via LNG imports or from unconventional sources of domestic gas. However, there must be an adequate transmission system—interstate pipelines—to deliver this gas to the distribution companies and the end users.

Panelists:Martha Wyrsch, President and CEO, Duke Energy Gas Transmission, on behalf of the Interstate Natural Gas Association of America; Larry Bickle, Managing Director, Haddington Ventures, LLC; James Wilson, Principal, LECG, LLC; Richard Smead, Director, Navigant Consulting Inc.; Alex Strawn, Chairman, Process Gas Consumers Group; Sam Brothwell, Director, Equity Research-Electric & Gas Utilities, Wachovia; and Michael Gildea, Constellation Generation on behalf of Electric Power Supply Association.

12:55 p.m.—Open Forum

1:15 p.m.—Closing Remarks

1:30 p.m.—Adjourn

[FR Doc. E5-5669 Filed 10-14-05; 8:45 am]

BILLING CODE 6717-01-P